DEPARTMENT OF EDUCATION

National Assessment Governing Board; Meeting

AGENCY: National Assessment Governing Board, U.S. Department of Education.

ACTION: Notice of Open and Closed Meeting Sessions.

SUMMARY: This notice sets forth the schedule and proposed agenda for the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g. interpreting services, assistive listening devices, materials in alternative format) should notify Munira Mwalimu at 202-357-6938 or at Munira.Mwalimu@ed.gov no later than July 28, 2014. We will attempt to meet requests after this date but cannot guarantee availability of the requested accommodation. The meeting site is accessible to individuals with disabilities.

DATES: July 31-August 2, 2014.

Times

July 31: Committee Meetings

Assessment Development Committee: Closed Session: 8:30 a.m.-4:00 p.m.

Assessment Literacy Work Group: Open Session: 2:00 p.m.-4:00 p.m.

Executive Committee: Open Session: 4:30 p.m.-5:00 p.m. Closed Session: 5:00 p.m.-5:30 p.m.

August 1: Full Board and Committee Meetings

Full Board: Open Session: 8:30 a.m.-9:45 a.m.; Closed Session 12:45 p.m.-1:45 p.m.; Open Session 2:00 p.m.-3:15 p.m.; Closed Session 3:30 p.m.-5:00 p.m.

Committee Meetings:

Reporting and Dissemination Committee (R&D): Open Session: 9:45 a.m.-12:30 p.m.

Assessment Development Committee (ADC): Open Session: 9:45 a.m.-12:30 p.m.

Committee on Standards, Design and Methodology (COSDAM): Open Session: 9:45 a.m.-12:30 p.m.

August 2: Full Board and Committee Meetings

Nominations Committee: Closed Session: 7:30 a.m.-8:15 a.m.

Full Board: Open Session 8:30 a.m.-12:00 p.m.

Location: The Fairfax at Embassy Row, 2100 Massachusetts Avenue NW., Washington DC.

FOR FURTHER INFORMATION CONTACT: Munira Mwalimu, Executive Officer, National Assessment Governing Board, 800 North Capitol Street NW., Suite 825, Washington, DC, 20002-4233, Telephone: (202) 357-6938.

SUPPLEMENTARY INFORMATION: The National Assessment Governing Board (Board) is established under section 302 of the National Assessment of Educational Progress Authorization Act.

The Board is established to formulate policy guidelines for the National Assessment of Educational Progress (NAEP). The Board's responsibilities include the following: selecting subject areas to be assessed, developing assessment frameworks and specifications, developing appropriate student achievement levels for each grade and subject tested, developing standards and procedures for interstate and national comparisons, developing guidelines for reporting and disseminating results, and releasing initial NAEP results to the public.

On July 31, 2014, from 8:30 a.m. to 4:00 p.m. the Assessment Development Committee will meet in closed session to review secure NAEP test items in grades 4, 8 and 12 for the 2015 operational assessment in science. The Committee will review and discuss secure test items that cannot be discussed in an open meeting to protect the confidentiality of the secure assessment materials. Premature disclosure of these results would significantly impede implementation of the NAEP assessment program, and is therefore protected by exemption 9(B) of section 552b(c) of Title 5 United States Code.

The Board's Assessment Literacy Work Group will meet in open session on July 31, 2014, from 2:00 p.m. to 4:00 p.m. The Work Group will discuss strategies and timelines related to their work on promoting a better understanding of educational tests among parents and members of the general public.

The Board's Executive Committee will convene on July 31, 2014 in open session from 4:30 p.m. to 5:00 p.m. to review and discuss the July 31-August 2, 2014 Board meeting agenda, receive updates on the NAEP budget, assessment schedule, and reauthorization, and discuss Board Committee issues and challenges to be addressed by the respective Board Committees.

Following this session, the Executive Committee will meet in closed session from 5:00 p.m. to 5:30 p.m. to receive and discuss costs for specific activities under individual and collective current contracts, and independent government cost estimates from the National Center for Education Statistics (NCES) staff on various options for proposed item development, data collection, scoring and analysis, and reporting of NAEP for 2014-2018. The implications of the cost estimates and funds in support of the NAEP Assessment Schedule and future NAEP activities will also be discussed. This part of the meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

On August 1, 2014, the full Board will meet in open session from 8:30 a.m. to 9:30 a.m. The Board will review and approve the August 2014 Board meeting agenda and meeting minutes from the May 15-17, 2014 Quarterly Board meeting. This session will be followed by the Chairman's remarks. Following these remarks, the Executive Director of the Governing Board will provide a report, followed by updates on the National Center for Education Statistics (NCES) and NAEP from the Director of the Institute of Education Sciences (IES). Thereafter, the Board will recess for Committee meetings from 9:45 a.m. to 12:30 p.m.

The Reporting and Dissemination Committee, Assessment Development Committee, and the Committee on Standards, Design and Methodology (COSDAM) will meet in open sessions from 9:45 a.m. to 12:30 p.m.

Following the Committee meetings, the Board will convene in closed session from 12:45 p.m. to 1:45 p.m. to receive a briefing and discuss the NAEP Report on School Composition and the Black-White Achievement Gap. The Board will receive an embargoed briefing on preliminary results, which will include assessment data and results that cannot be discussed in an open meeting prior to their official approval and release by the National Assessment Governing Board. Premature disclosure of these results would significantly impede implementation of the NAEP assessment program, and is therefore protected by exemption 9(B) of section 552b(c) of Title 5 United States Code.

On August 1, 2014 from 2:00 p.m. to 3:15 p.m., the Board will meet in open session to engage in a question and answer session with representatives from the Common Core State Assessment Consortia. Thereafter, from 3:30 p.m. to 5:00 p.m., the Board will meet in closed session to discuss and take action on the NAEP Schedule of Assessments. The action will require discussions on independent government cost estimates that will likely have an impact on the NAEP Schedule of Assessments. This part of the meeting must be conducted in closed session because public disclosure of this information would likely have an adverse financial effect on the NAEP program by providing contractors attending an unfair advantage in procurement and contract negotiations for NAEP. Discussion of this information would be likely to significantly impede implementation of a proposed agency action if conducted in open session. Such matters are protected by exemption 9(B) of section 552b of Title 5 U.S.C.

On August 2, 2014, the Nominations Committee will meet in closed session from 7:30 a.m. to 8:15 a.m. to discuss candidates for the eight Board vacancies for terms beginning on October 1, 2015. The Committee's discussions pertain solely to internal personnel rules and practices of an agency and information of a personal nature where disclosure would constitute an unwarranted invasion of personal privacy. As such, the discussions are protected by exemptions 2 and 6 of section 552b(c) of Title 5 of the United States Code.

On August 2, 2014, the Board will meet in open session from 8:30 a.m. to 12:00 p.m. The Board will receive a briefing on an Inside NAEP series—Expanding Scales to Improve Achievement from 8:30 a.m. to 9:30 a.m. Following this session, from 9:30 a.m. to 10:15 a.m. the Board will receive a briefing on research work on NAEP Contextual Questions.

Outgoing Board members Brent Houston, Tom Luna, and David Driscoll will provide remarks from 10:30 a.m. to 10:45 a.m. The Board is scheduled to receive reports from the standing Committees and take action on Committee recommendations from 10:45 a.m. to 12:00 p.m. The August 2, 2014 meeting is scheduled to adjourn at 12:00 p.m.

A verbatim transcript of the meeting, consistent with the policy of section 5 U.S.C. 552b(c) will be available to the public within 14 days of the meeting. Records are kept of all Board proceedings and are available for public inspection at the U.S. Department of Education, National Assessment Governing Board, Suite #825, 800 North Capitol Street NW., Washington, DC 20002, from 9:00 a.m. to 5:00 p.m. Eastern Time, Monday through Friday.

Electronic Access to This Document: You may view this document, as well as all other documents of this Department published in the Federal Register, in text or Adobe Portable Document Format (PDF) on the Internet at http://www.ed.gov/news/fedregister.

To use PDF you must have Adobe Acrobat Reader, which is available free at http://get.adobe.com/reader. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html

Dated: July 1, 2014.
Cornelia S. Orr,
Executive Director, National Assessment Governing Board (NAGB), U.S. Department of Education.

[FR Doc. 2014-15743 Filed 7-3-14; 8:45 am]

BILLING CODE 4000-01-P